DEPARTMENT OF ENERGY

Federal Energy Regulatory Commission

Combined Notice of Filings #1

Take notice that the Commission received the following electric corporate filings:

Docket Numbers: EC17-84-000.

Applicants: Innovative Solar 37, LLC.

Description: Application of Innovative Solar 37, LLC for Authorization Under Section 203 of the Federal Power Act and Confidential Treatment.

Filed Date: 2/24/17.

Accession Number: 20170224-5172.

Comments Due: 5 p.m. ET 3/17/17.

Docket Numbers: EC17-85-000.

Applicants: Entergy New Orleans, Inc.

Description: Application for Approval under Section 203 of the Federal Power Act of Entergy New Orleans, Inc.

Filed Date: 2/24/17.

Accession Number: 20170224-5175.

Comments Due: 5 p.m. ET 3/17/17.

Take notice that the Commission received the following electric rate filings:

Docket Numbers: ER10-2331-064; ER10-2319-055; ER10-2317-055; ER13-1351-037; ER10-2330-062.

Applicants: J.P. Morgan Ventures Energy Corporation, BE Alabama LLC, BE CA LLC, Florida Power Development LLC, Utility Contract Funding, L.L.C.

Description: Notice of Non-Material Change in Status of the J.P. Morgan Sellers.

Filed Date: 2/24/17.

Accession Number: 20170224-5170.

Comments Due: 5 p.m. ET 3/17/17.

Docket Numbers: ER15-794-003.

Applicants: Catalyst Paper Operations Inc.

Description: Notice of Change in Status of Catalyst Paper Operations Inc.

Filed Date: 2/24/17.

Accession Number: 20170224-5168.

Comments Due: 5 p.m. ET 3/17/17.

Docket Numbers: ER16-453-006.

Applicants: Northeast Transmission Development, LLC.

Description: Compliance Filing [including unpopulated, Pro Forma version of Attachments H-27A and H-27B] of Northeast Transmission Development, LLC.

Filed Date: 2/24/17.

Accession Number: 20170224-5173.

Comments Due: 5 p.m. ET 3/17/17.

Docket Numbers: ER17-1037-000.

Applicants: Innovative Solar 37, LLC.

Description: Baseline eTariff Filing: Baseline new to be effective 4/26/2017.

Filed Date: 2/24/17.

Accession Number: 20170224-5158.

Comments Due: 5 p.m. ET 3/17/17.

Docket Numbers: ER17-1038-000.

Applicants: The Connecticut Light and Power Company.

Description: § 205(d) Rate Filing: Two Party Interconnection Agreement with Covanta Southeastern CT Co. to be effective 2/18/2017.

Filed Date: 2/24/17.

Accession Number: 20170224-5163.

Comments Due: 5 p.m. ET 3/17/17.

Docket Numbers: ER17-1039-000.

Applicants: PacifiCorp.

Description: § 205(d) Rate Filing: BPA General Transfer Agreement (West) Rev 8 to be effective 4/25/2017.

Filed Date: 2/24/17.

Accession Number: 20170224-5167.

Comments Due: 5 p.m. ET 3/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2017.
Nathaniel J. Davis, Sr.,
Deputy Secretary.

[FR Doc. 2017-04216 Filed 3-3-17; 8:45 am]

BILLING CODE 6717-01-P